DEPARTMENT OF TRANSPORTATION

Federal Aviation Administration

14 CFR Part 39

[Docket No. FAA-2004-19245; Directorate Identifier 2004-NM-108-AD; Amendment 39-14699; AD 2006-15-18]

RIN 2120-AA64

Airworthiness Directives; Boeing Model 737-300, -400, -500, -600, -700, -700C, -800, and -900 Series Airplanes

AGENCY: Federal Aviation Administration (FAA), Department of Transportation (DOT).

ACTION: Final rule.

SUMMARY: The FAA is adopting a new airworthiness directive (AD) for certain Boeing Model 737-300, -400, -500, -600, -700, -700C, -800, and -900 series airplanes. This AD requires modifying the wiring for the master dim and test system. For certain airplanes, this AD also requires related concurrent actions as necessary. This AD results from a report that the master dim and test system circuit does not have wiring separation of the test ground signal for redundant equipment in the flight compartment. We are issuing this AD to prevent a single fault failure in flight from simulating a test condition and showing test patterns instead of the selected radio frequencies on the communications panels, which could inhibit communication between the flightcrew and the control tower, affecting the continued safe flight of the airplane.

DATES: This AD becomes effective September 5, 2006.

The Director of the Federal Register approved the incorporation by reference of certain publications listed in the AD as of September 5, 2006.

ADDRESSES: You may examine the AD docket on the Internet at http://dms.dot.gov or in person at the Docket Management Facility, U.S. Department of Transportation, 400 Seventh Street, SW., Nassif Building, Room PL-401, Washington, DC.

Contact Boeing Commercial Airplanes, P.O. Box 3707, Seattle, Washington 98124-2207, for service information identified in this AD.

FOR FURTHER INFORMATION CONTACT: Binh Tran, Aerospace Engineer, Systems and Equipment Branch, ANM-130S, FAA, Seattle Aircraft Certification Office, 1601 Lind Avenue, SW., Renton, Washington 98057-3356; telephone (425) 917-6485; fax (425) 917-6590.

SUPPLEMENTARY INFORMATION:

Examining the Docket

You may examine the AD docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a supplemental notice of proposed rulemaking (NPRM) to amend 14 CFR part 39 to include an AD that would apply to certain Boeing Model 737-300, -400, -500, -600, -700, -700C, -800, and -900 series airplanes. That supplemental NPRM was published in the Federal Register on May 26, 2006 (71 FR 30346). That supplemental NPRM proposed to require modifying the wiring for the master dim and test system. For certain airplanes, the supplemental NPRM also proposed to require related concurrent actions as necessary.

Comments

We provided the public the opportunity to participate in the development of this AD. We have considered the single comment received. The commenter, Boeing, supports the supplemental NPRM.

Conclusion

We have carefully reviewed the available data, including the comment received, and determined that air safety and the public interest require adopting the AD as proposed in the supplemental NPRM.

Costs of Compliance

There are about 2,868 airplanes of the affected design in the worldwide fleet. This AD will affect about 1,181 airplanes of U.S. registry. The following table provides the estimated costs for U.S. operators to comply with this AD.

Estimated Costs
Boeing Service Bulletin | Work hours | Average labor rate per hour | Parts | Cost per airplane | Fleet cost
737-33-1132, Revision 2 | 14 | $80 | Nominal | $1,120 | $1,322,720
737-33-1133, Revision 3 | 3 | 80 | Nominal | 240 | 283,440

Estimated Concurrent Service Bulletin Costs
Boeing Service Bulletin | Work hours | Average labor rate per hour | Parts | Cost per airplane | Number of U.S.-registered airplanes | Fleet cost
737-26A1083, Revision 1 | 185 | $80 | Between $30,000 and $36,400 | Between $44,800 and $51,200 | 1 | Between $44,800 and $51,200.
737-33-1121, Revision 1 | Between 5 and 6 | $80 | Between $200 and $340 | Between $600 and $820 | 83 | Between $49,800 and $68,060.
737-77-1022, Revision 1 | 72 | $80 | No charge | $5,760 | 4 | $23,040.
737-77-1023, Revision 1 | Between 1 and 3 | $80 | Nominal | Between $80 and $240 | 26 | Between $2,080 and $6,240.
737-23-1102 | 77 | $80 | $22,164 | $28,324 | 0 | No fleet cost unless an affected airplane is imported and placed on the U.S. register.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-15-18 Boeing: Amendment 39-14699. FAA-2004-19245; Directorate Identifier 2004-NM-108-AD.

Effective Date

(a) This AD becomes effective September 5, 2006.

Affected ADs

(b) None.

Applicability

(c) This AD applies to Boeing Model 737-300, -400, and -500 series airplanes identified in Boeing Special Attention Service Bulletin 737-33-1132, Revision 2, dated September 8, 2005; and Model 737-600, -700, -700C, -800, and -900 series airplanes identified in Boeing Service Bulletin 737-33-1133, Revision 3, dated September 8, 2005; certificated in any category.

Unsafe Condition

(d) This AD results from a report that the master dim and test system circuit does not have wiring separation of the test ground signal for redundant equipment in the flight compartment. We are issuing this AD to prevent a single fault failure in flight from simulating a test condition and showing test patterns instead of the selected radio frequencies on the communications panels, which could inhibit communication between the flightcrew and the control tower, affecting the continued safe flight of the airplane.

Compliance

(e) You are responsible for having the actions required by this AD performed within the compliance times specified, unless the actions have already been done.

Modification

(f) Within 48 months after the effective date of this AD: Modify the wiring for the master dim test system in accordance with the Accomplishment Instructions of Boeing Special Attention Service Bulletin 737-33-1132, Revision 2, dated September 8, 2005 (for Model 737-300, -400, and -500 series airplanes); and Boeing Service Bulletin 737-33-1133, Revision 3, dated September 8, 2005 (for Model 737-600, -700, -700C, -800, and -900 series airplanes); as applicable.

Actions Required To Be Accomplished Prior to or Concurrently With Paragraph (f) of This AD

(g) Prior to or concurrently with accomplishment of paragraph (f) of this AD, do the actions specified in Table 1 of this AD, as applicable.

Table 1.—Prior/Concurrent Actions
For— | Accomplish all actions associated with— | According to the Accomplishment Instructions of—
Group 57 airplanes identified in Boeing Special Attention Service Bulletin 737-33-1132, Revision 2, dated September 8, 2005 | Installing an engine instrument system (EIS) and | Boeing Service Bulletin 737-77-1022, Revision 1, dated October 26, 1989.
| Modifying the advisory system for the EIS | Boeing Service Bulletin 737-77-1023, Revision 1, dated November 9, 1989.
Group 37 and 46 airplanes identified in Boeing Service Bulletin 737-33-1133, Revision 3, dated September 8, 2005 | Installing wiring for the test system for the audio control panel lamp | Boeing Service Bulletin 737-33-1121, Revision 1, dated December 19, 2002.
Group 2 airplanes identified in Boeing Service Bulletin 737-33-1121, Revision 1, dated December 19, 2002 | Installing splice SP896 | Boeing Service Bulletin 737-26A1083, Revision 1, dated November 15, 2001.
Group 39 airplanes identified in Boeing Service Bulletin 737-33-1133, Revision 3, dated September 8, 2005 | Installing a smoke detection and fire extinguishing system in the cargo compartment | Boeing Service Bulletin 737-26A1083, Revision 1, dated November 15, 2001.
Group 59 airplanes identified in Boeing Special Attention Service Bulletin 737-33-1132, Revision 2, dated September 8, 2005 | Replacing the very high frequency (VHF) and high frequency (HF) communications panels with radio control panels | Boeing Service Bulletin 737-23-1102, dated June 3, 1999.

Actions Accomplished per Previous Issue of Service Bulletins

(h) Actions accomplished before the effective date of this AD in accordance with the service bulletins identified in Table 2 of this AD are considered acceptable for compliance with the corresponding actions specified in this AD.

Table 2.—Previous Issues of Service Bulletins
Service Bulletin | Revision level | Date
Boeing Special Attention Service Bulletin 737-33-1133 | Original | December 19, 2002.
Boeing Service Bulletin 737-33-1133 | Revision 1 | April 17, 2003.
Boeing Service Bulletin 737-33-1133 | Revision 2 | December 4, 2003.
Boeing Special Attention Service Bulletin 737-33-1132 | Original | March 20, 2003.
Boeing Special Attention Service Bulletin 737-33-1132 | Revision 1 | March 4, 2004.

Alternative Methods of Compliance (AMOCs)

(i)(1) The Manager, Seattle Aircraft Certification Office, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Material Incorporated by Reference

(j) You must use the service information identified in Table 3 of this AD to perform the actions that are required by this AD, unless the AD specifies otherwise.

Table 3.—Material Incorporated by Reference
Service Bulletin | Revision level | Date
Boeing Service Bulletin 737-23-1102 | Original | June 3, 1999.
Boeing Service Bulletin 737-26A1083 | 1 | November 15, 2001.
Boeing Service Bulletin 737-33-1121 | 1 | December 19, 2002.
Boeing Service Bulletin 737-33-1133 | 3 | September 8, 2005.
Boeing Service Bulletin 737-77-1022 | 1 | October 26, 1989.
Boeing Service Bulletin 737-77-1023 | 1 | November 9, 1989.
Boeing Special Attention Service Bulletin 737-33-1132 | 2 | September 8, 2005.

Boeing Service Bulletin 737-77-1022, Revision 1, dated October 26, 1989, contains the following effective pages:

Page No. | Revision level shown on page | Date shown on page
1, 3, 5-7, 10, 17, 28-55 | Revision 1 | Oct. 26, 1989.
2, 4, 8, 9, 11-16, 18-27 | Original | June 15, 1989.

The Director of the Federal Register approved the incorporation by reference of these documents in accordance with 5 U.S.C. 552(a) and 1 CFR part 51. Contact Boeing Commercial Airplanes, P.O. Box 3707, Seattle, Washington 98124-2207, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on July 20, 2006.
Ali Bahrami,
Manager, Transport Airplane Directorate, Aircraft Certification Service.

[FR Doc. E6-12099 Filed 7-28-06; 8:45 am]

BILLING CODE 4910-13-P